DEPARTMENT OF THE INTERIOR

Bureau of Land Management

[AZ-330-07-1610-DR-082A]

Notice of Availability of Record of Decision for the Lake Havasu Field Office Resource Management Plan

AGENCY: Bureau of Land Management, Interior.

ACTION: Notice of availability.

SUMMARY: In accordance with the National Environmental Policy Act (NEPA), the Federal Land Policy and Management Act (FLPMA), and the Bureau of Land Management (BLM) management policies, the BLM announces the availability of the Record of Decision (ROD)/Approved Resource Management Plan (RMP) for the Lake Havasu Field Office located in Arizona and California. The Arizona State Director will sign the ROD making the decisions in the Lake Havasu RMP effective immediately.

ADDRESSES: Printed copies and electronic copies (on CD-ROM) of the ROD/Approved RMP are available upon request from the Bureau of Land Management, Lake Havasu Field Office, 2610 Sweetwater Avenue, Lake Havasu City, Arizona 86406. The document is also available via the internet http://www.blm.gov/az. To receive a copy of the document, contact the BLM via e-mail at Lake_Havasu@blm.gov or call (928) 505-1200.

FOR FURTHER INFORMATION CONTACT: Gina Trafton, Bureau of Land Management, Lake Havasu Field Office, 2610 Sweetwater Avenue, Lake Havasu City, Arizona 86406. Contact via e-mail at Lake_Havasu@blm.gov or call (928) 505-1200.

SUPPLEMENTARY INFORMATION: One of the BLM's objectives during the planning process was to understand the views of various publics by providing opportunities for meaningful participation. Through communication media such as meetings, newsletters and news releases, the public was provided opportunities to identify issues that needed to be addressed. The public also provided comments during the 90-day public comment period on the Draft EIS; these comments were addressed in the Final EIS. The BLM coordinated with the four agencies that requested Cooperating Agency status (i.e. Arizona Department of Transportation, Arizona Game and Fish Department, Bureau of Reclamation and the Federal Highway Administration) and U.S. Fish and Wildlife Service, Arizona State Land Department, California Department of Fish and Game, adjacent BLM field offices, and other land managing agencies within the boundaries of the planning areas. The BLM also initiated consultation with tribes, who have oral traditions or cultural concerns relating to the planning area, or who are documented as having occupied or used portions of the planning area during prehistoric or historic times.

The Approved RMP includes strategies for protecting and preserving the biological, cultural, recreational, geological, educational, scientific, and scenic values that balance multiple uses of the BLM-administered lands throughout the Lake Havasu Field Office (LHFO) planning area. The planning area encompasses more than 1.3 million acres of BLM administered lands.

The Approved RMP designated five Areas of Critical Environmental Concern (ACECs): Beale Slough Riparian and Cultural ACEC (2,395 acres); Bullhead Bajada Natural and Cultural ACEC (7,090 acres); Crossman Peak Scenic ACEC (48,855 acres); Swansea Historic District ACEC (5,973 acres); and Three Rivers Riparian ACEC (2,246 acres). The following types of resource use limitations apply to these ACECs: (1) Grazing prescriptions are designed to achieve the desired plant community objectives; (2) Recreation facilities are limited to projects that protect ACEC values; (3) Camping is limited to developed or signed sites; and (4) Motorized travel is permitted only on designated open and signed routes.

The Preferred Alternative in the Draft Resource Management Plan/Draft EIS (published September 20, 2005) was revised to include comments received during the 90-day public comment period. The resultant alternative became the Proposed Plan in the Proposed Resource Management Plan/Final EIS (PRMP/FEIS), published September 22, 2006. The BLM has determined that Proposed Plan will provide an optimal balance between authorized resource use and the protection and long-term sustainability of sensitive resources within the planning area.

Neither the Arizona nor the California Governors' Offices identified any inconsistencies between the PRMP/FEIS and state or local plans, policies, and programs following the 60-day Governors' Consistency Reviews (initiated August 23, 2006, in accordance with planning regulations at 43 CFR 1610.3-2(e)).

One protest was received during the FEIS 30-day protest period. The Proposed Plan was clarified based on the one protest received. As a result, only minor editorial modifications were made in preparing the Approved RMP. These modifications provided further clarification of some of the decisions. Additional text was added to clarify the protection of wilderness characteristics as well as the impacts from Off-Highway Vehicles. The changes between the PRMP and the Approved RMP are clearly stated in sections entitled Modifications and Clarifications in the ROD. The resultant revised Proposed Plan is now called the “Approved RMP” and is attached to the ROD.

The Approved RMP does not contain Implementation Decisions. Future activity-level plans will address the implementation of the Approved RMP. These implementation plans will be accompanied by any required additional site-specific planning and NEPA analysis. Approval of an activity plan is an appealable decision). The appeal process will be set forth in the future individual implementation (activity or project level) plans.

Dated: May 1, 2007.
Michael A. Taylor,
Acting, Arizona State Director.

[FR Doc. E7-13241 Filed 7-6-07; 8:45 am]

BILLING CODE 4310-32-P